DEPARTMENT OF COMMERCE

International Trade Administration

[A-570-941]

Certain Kitchen Appliance Shelving and Racks From the People's Republic of China: Final Results of Expedited First Sunset Review of the Antidumping Duty Order

AGENCY: Enforcement and Compliance, International Trade Administration, Department of Commerce.

SUMMARY: On August 1, 2014, the Department of Commerce (the “Department”) published the notice of initiation of the first five-year (“sunset”) review of the antidumping duty order on certain kitchen appliance shelving and racks (“KASR”) from the People's Republic of China (“PRC”) pursuant to section 751(c) of the Tariff Act of 1930, as amended (the “Act”).¹ As a result of this sunset review, the Department finds that revocation of the antidumping duty order on KASR from the PRC would be likely to lead to continuation or recurrence of dumping. The magnitude of the dumping margins likely to prevail is indicated in the “Final Results of Review” section of this notice.

¹ See Initiation of Five-Year (“Sunset”) Review, 79 FR 44743 (August 1, 2014).

DATES: Effective Date: November 13, 2014.

FOR FURTHER INFORMATION CONTACT: Irene Gorelik, AD/CVD Operations, Enforcement and Compliance, International Trade Administration, U.S. Department of Commerce, 14th Street and Constitution Avenue NW., Washington, DC 20230; telephone: (202) 482-6905.

SUPPLEMENTARY INFORMATION:

Background

As noted above, on August 1, 2014, the Department published the initiation of the first sunset review of KASR from the PRC.² On August 18, 2014, Nashville Wire Products, Inc. (“Nashville Wire”) and SSW Holding Company, Inc. (“SSW”) (collectively, “Petitioners”) timely notified the Department of their intent to participate within the deadline specified in 19 CFR 351.218(d)(1)(i), claiming domestic interested party status under section 771(9)(C) of the Act.³ On September 2, 2014, the Department received an adequate substantive response from Petitioners within the deadline specified in 19 CFR 351.218(d)(3)(i).⁴ We received no responses from respondent interested parties. As a result, the Department conducted an expedited (120-day) sunset review of the order, pursuant to section 751(c)(3)(B) of the Act and 19 CFR 351.218(e)(1)(ii)(C)(2).

² Id.

³ See Petitioners' August 18, 2014, submission.

⁴ See Petitioners' September 2, 2014, submission.

Scope of the Order

The scope of the order consists of shelving and racks for refrigerators, freezers, combined refrigerator-freezers, other refrigerating or freezing equipment, cooking stoves, ranges, and ovens (“certain kitchen appliance shelving and racks” or “the merchandise under order”).

The merchandise subject to the order is currently classifiable in the Harmonized Tariff Schedule of the United States (“HTSUS”) statistical reporting numbers 8418.99.8050, 8418.99.8060, 7321.90.5000, 7321.90.6090, 8516.90.8000 and 8419.90.9520. Although the HTSUS subheadings are provided for convenience and customs purposes, the written description of the scope of the order is dispositive.⁵

⁵ For the full scope of the Order, see “Issues and Decision Memorandum for the Expedited First Sunset Review of the Antidumping Duty Order on Certain Kitchen Appliance Shelving and Racks from the People's Republic of China” from Christian Marsh, Deputy Assistant Secretary for Antidumping and Countervailing Duty Operations, to Ronald K. Lorentzen, Acting Assistant Secretary for Enforcement and Compliance, dated concurrently with, and hereby adopted by, this notice (“Issues and Decision Memorandum”).

Analysis of Comments Received

All issues raised in this sunset review are addressed in the Issues and Decision Memorandum. The issues discussed in the Issues and Decision Memorandum include the likelihood of continuation or recurrence of dumping and the magnitude of the margins likely to prevail if the order were to be revoked. Parties may find a complete discussion of all issues raised in the review and the corresponding recommendations in this public memorandum which is on file electronically via Enforcement and Compliance's Antidumping and Countervailing Duty Centralized Electronic Service System (“IA ACCESS”). IA ACCESS is available to registered users at http://iaaccess.trade.gov, and is available to all parties in the Central Records Unit, room 7046 of the main Department of Commerce building. In addition, a complete version of the Decision Memorandum can be accessed directly on the Internet at http://enforcement.trade.gov/frn/index.html. The signed and electronic versions of the Issues and Decision Memorandum are identical in content.

Final Results of Review

Pursuant to section 752(c) of the Act, the Department determines that revocation of the order would be likely to lead to continuation or recurrence of dumping at weighted-average margins up to 95.99 percent.

Administrative Protective Order

This notice also serves as the only reminder to parties subject to administrative protective order (“APO”) of their responsibility concerning the return or destruction of proprietary information disclosed under APO in accordance with 19 CFR 351.305. Timely notification of the return of destruction of APO materials or conversion to judicial protective order is hereby requested. Failure to comply with the regulations and terms of an APO is a violation which is subject to sanction.

We are publishing these final results and notice in accordance with sections 751(c), 752(c), and 777(i)(1) of the Act.

Dated: November 4, 2014.
Ronald K. Lorentzen,
Acting Assistant Secretary for Enforcement and Compliance.

[FR Doc. 2014-26789 Filed 11-12-14; 8:45 am]

BILLING CODE 3510-DS-P